DEPARTMENT OF DEFENSE

Office of the Secretary

Reserve Forces Policy Board (RFPB)

AGENCY: Office of the Secretary of Defense Reserve Forces Policy Board, DoD.

ACTION: Notice of advisory committee meeting.

SUMMARY: Pursuant to the Federal Advisory Committee Act of 1972 (5 U.S.C., Appendix, as amended), the Sunshine in the Government Act of 1976 (5 U.S.C. 552b, as amended), and 41 CFR 102-3.150, the Department of Defense announces that the Reserve Forces Policy Board (RFPB) will meet November 12-13, 2009. The meeting is open to the public, depending on the availability of space.

DATES: The meeting will be held on November 12 from 8 a.m. to 4 p.m. and on November 13, 2009, from 8 a.m. to 3 p.m.

ADDRESSES: The meeting will be held at the Pentagon, Conference Room 3E863, Arlington, VA.

Mailing address is Reserve Forces Policy Board, 7300 Defense Pentagon, Washington, DC 20330-7300.

FOR FURTHER INFORMATION CONTACT: Col. Marjorie Davis, Designated Federal Officer, (703) 697-4486 (Voice), (703) 614-0504 (Facsimile), marjorie.davis@osd.mil. Mailing address is Reserve Forces Policy Board, 7300 Defense Pentagon, Washington, DC 20301-7300.

SUPPLEMENTARY INFORMATION: Agenda:

The RFPB will hold this quarterly meeting to discuss future demographics and the impact on the Reserve Components, as well other issues relevant to the Reserve Components.

Meeting Accessibility:

Pursuant to 5 U.S.C. 552b, as amended, and 41 CFR 102-3.140 through 102-3.165, and the availability of space this meeting is open to the public. To request a seat, contact the DFO in advance at 703-697-4486, or by e-mail, marjorie.davis@osd.mil no later than 30 October 2009.

Written Statements:

Pursuant to 41 CFR 102-3.105(j) and 102-3.140, the public or interested organizations may submit written statements to the membership of the RFPB at any time or in response to the stated agenda of a planned meeting. Written statements should be submitted to the RFPB's Designated Federal Officer (see FOR FURTHER INFORMATION CONTACT). The Designated Federal Officer's contact information can be obtained from the GSA's FACA Database— https://www.fido.gov/facadatabase/public.asp.

Written statements that do not pertain to a scheduled meeting of the RFPB may be submitted at any time. However, if individual comments pertain to a specific topic being discussed at a planned meeting then these statements must be submitted no later than five business days prior to the meeting in question. The Designated Federal Officer will review all submitted written statements and provide copies to all the committee members.

Dated: October 8, 2009.
Patricia L. Toppings,
OSD Federal Register Liaison Officer, Department of Defense.

[FR Doc. E9-24889 Filed 10-15-09; 8:45 am]

BILLING CODE 5001-06-P